DEPARTMENT OF TRANSPORTATION

Coast Guard

33 CFR Part 117

[CGD09-01-003]

RIN 2115-AE47

Drawbridge Operation Regulations; Trail Creek, IN

AGENCY: Coast Guard, DOT.

ACTION: Final rule.

SUMMARY: The Coast Guard is revising the operating regulation governing moveable bridges on Trail Creek in Michigan City, Indiana. This rule will establish twice-an-hour openings for the Franklin Street bridge, mile 0.5, during the peak navigation season, revise the current regulation for the Amtrak bridge, mile 0.85, and establish winter schedules for both bridges.

DATES: This rule is effective June 20, 2001.

ADDRESSES: Comments and material received from the public, as well as all material in the docket CGD09-01-003, are available for inspection or copying at the office of Commander (obr), Ninth Coast Guard District, 1240 East Ninth Street, Room 2019, Cleveland, OH, 44199-2060 between 6:30 a.m. and 3 p.m., Monday through Friday, except Federal holidays.

FOR FURTHER INFORMATION CONTACT: Mr. Scot M. Striffler, Project Manager, Ninth Coast Guard District Bridge Branch, at (216) 902-6084.

SUPPLEMENTARY INFORMATION:

Regulatory Information

On February 28, 2001, the Coast Guard published a notice of proposed rulemaking concerning these drawbridge regulations in the Federal Register (66 FR 12745). We received no comments concerning the proposed rule. No public hearing was requested and none was held.

Background and Purpose

The owner of the Franklin Street bridge, LaPorte County Highway Department, IN, requested the Coast Guard approve a modified schedule for the bridge to reduce vehicular traffic delays in the vicinity of the bridge during the peak tourist season and to establish a permanent winter operating schedule. The current regulation for the Amtrak bridge is obsolete and does not accurately reflect current train and vessel operations at that location.

The Amtrak bridge is currently required to open on signal between the hours of 6:30 a.m. and 2:30 p.m., except Sundays, from February 16 through December 14. The bridge is not required to be manned all other times and would be opened within 20 minutes following notification to the Amtrak dispatcher in Chicago. The Coast Guard determined that this schedule did not provide for the reasonable needs of navigation and places undue burden on vessel operators wishing to pass the draw. Amtrak representatives concurred with this finding. Also, the bridge was manned during periods of no vessel traffic on the waterway during winter months, placing an undue burden on the railroad. The revised regulation establishes the requirement for the bridge to open on signal for vessels between March 16 and November 30 each year. Vessel operators will be required to provide at least 12 hours advance notice for openings between December 1 and March 15 each year. This will allow the bridge to be unmanned during periods of no train traffic and during winter months when there is no navigation.

The Franklin Street bridge is located in a highly congested section of Michigan City, and adjacent to a park area that is visited by a large number of residents and tourists between April 1 and December 1 each year. LaPorte County Highway Dept., acting on behalf of the City of Michigan City, asked the Coast Guard to regulate bridge openings to coincide with the park hours to alleviate vehicular traffic congestion in the area, while still providing for the reasonable needs of navigation. This final rule will require the bridge to open on signal for vessels between March 16 and November 30, except between the hours of 6:15 a.m. and 11:15 p.m., Monday through Sunday, the bridge will only be required to open for vessels three minutes before to three minutes after the quarter-hour and three-quarter hour.

This schedule is believed to provide a reasonable balance between the needs of vessel traffic and vehicular traffic through the two drawbridges in Michigan City Harbor.

Discussion of Comments and Changes

The Coast Guard received no comments to the notice of proposed rulemaking. No changes will be made to the final rule.

Regulatory Evaluation

This rule is not a significant regulatory action under section 3(f) of Executive Order 12866 and does not require an assessment of potential costs and benefits under section 6(a)(3) of that order. The Office of Management and Budget has not reviewed it under that Order. It is not significant under the regulatory policies and procedures of the Department of Transportation (DOT) (44 FR 11040; February 26, 1979). The Coast Guard expects the economic impact of this rule to be so minimal that a full Regulatory Evaluation under paragraph 10e of the regulatory policies and procedures of DOT is unnecessary. This determination is based on the fact that this rule will not eliminate bridge openings for any vessels, but would only require vessels to pass Franklin Street bridge during scheduled periods throughout the peak navigation season (March 16 to November 30). The bridges will still open between December 1 and March 15 if 12-hour advance notice is provided.

Small Entities

Under the Regulatory Flexibility Act (5 U.S.C. 601 et seq.), the Coast Guard must consider whether this rule will have a significant impact on a substantial number of small entities. “Small entities” may include small businesses and not-for-profit organizations that are independently owned and operated and are not dominant in their fields, and governmental jurisdictions with populations of less than 50,000 people.

The Coast Guard certifies under 5 U.S.C 605(b) that this rule will not have a significant economic impact on a substantial number of small entities. This conclusion is based on the low number of small entities identified in the preliminary stages of this rulemaking, and the relatively minor restrictions placed on vessels desiring openings of the bridges.

Collection of Information

This rule calls for no new collection of information requirement under the Paperwork Reduction Act (44 U.S.C. 3501 et seq.).

Federalism

The Coast Guard has analyzed this rule under the principles and criteria contained in Executive Order 13132, and determined that this rule does not have federalism implications under that Order.

Unfunded Mandates Reform Act

The Unfunded Mandates Reform Act of 1995 (2 U.S.C. 1531-1538) governs the issuance of federal regulations that require unfunded mandates. An unfunded mandate is a regulation that requires a state, local, or tribal government or the private sector to incur direct costs without the federal government having first provided the funds to pay those unfunded mandate costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Environment

The Coast Guard considered the environmental impact of this rule and concluded that, under figure 2-1, paragraph 32(e) of Commandant Instruction M16475.lC, this rule is categorically excluded from further environmental documentation. This rule changes a drawbridge regulation which has been found not to have a significant effect on the environment. A “Categorical Exclusion Determination” is not required.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

List of Subjects in 33 CFR Part 117

Bridges.

For reasons set out in the preamble, the Coast Guard amends Part 117 of Title 33, Code of Federal Regulations, as follows:

PART 117—DRAWBRIDGE OPERATION REGULATIONS

1. The authority citation for Part 117 continues to read as follows:

Authority: 33 U.S.C. 499; 49 CFR 1.46; 33 CFR 1.05-1(g); section 117.255 also issued under the authority of Pub. L. 102-587, 106 Stat. 5039.

2. Revise § 117.401 to read as follows:

§ 117.401 Trail Creek.

(a) The draw of the Franklin Street bridge, mile 0.5 at Michigan City, shall be operated as follows:

(1) From March 16 through November 30, the draw shall open on signal; except from 6:15 a.m. to 11:15 p.m., Monday through Sunday, the draw need open only from three minutes before to three minutes after the quarter-hour and three-quarter hour.

(2) From December 1 through March 15, the draw shall open on signal if at least 12-hours advance notice is provided prior to intended time of passage.

(b) The draw of the Amtrak bridge, mile 0.9 at Michigan City, shall open on signal; except, from December 1 through March 15, the bridge shall open on signal if at least 12-hours advance notice is provided prior to intended time of passage.

(c) Public vessels of the United States, state or local vessels used for public safety, vessels in distress, and vessels seeking shelter from severe weather shall be passed through the draws of each bridge as soon as possible.

Dated: May 7, 2001.
James D. Hull,
Rear Admiral, U.S. Coast Guard, Commander, Ninth Coast Guard District.

[FR Doc. 01-12720 Filed 5-18-01; 8:45 am]

BILLING CODE 4910-15-U